FEDERAL MARITIME COMMISSION

Notice of Agreements Filed

The Commission hereby gives notice of the filing of the following agreement under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201352.

Agreement Name: Marine Terminal Services Agreement Port of Houston Authority and Ocean Network Express Pte. Ltd.

Parties: Port of Houston Authority; Ocean Network Express Pte. Ltd.

Filing Party: Rebecca Piller; Port of Houston Authority.

Synopsis: The Agreement sets forth certain discounted rates and charges applicable to ONE's container vessels calling at the Port of Houston Authority's Barbours Cut and Bayport Container Terminals in the Port of Houston.

Proposed Effective Date: 12/15/2020.

Location: https://www2.fmc.gov/FMC.Agreements.Web/Public/AgreementHistory/37506.

Agreement No.: 011962-018.

Agreement Name: Consolidated Chassis Management Pool Agreement.

Parties: Ocean Carrier Equipment Management Association, Inc.; Consolidated Chassis Enterprises LLC; CCM Pools LLC; Consolidated Chassis Management LLC; Chicago Ohio Valley Consolidated Chassis Pool LLC; Denver Consolidated Chassis Pool LLC; Gulf Consolidated Chassis Pool LLC; Mid-South Consolidated Chassis Pool LLC; Midwest Consolidated Chassis Pool LLC; Maersk A/S and Hamburg Sud (acting as a single party); CMA CGM S.A., APL Co. Pte Ltd., and American President Lines, Ltd. (acting as a single party); COSCO SHIPPING Lines Co., Ltd.; Evergreen Line Joint Service Agreement; Ocean Network Express Pte. Ltd.; Hapag-Lloyd AG and Hapag-Lloyd USA (acting as a single party); HMM Company Limited; MSC Mediterranean Shipping Co., S.A.; Zim Integrated Shipping Services Ltd.; Matson Navigation Company; Westwood Shipping Lines; and Yang Ming Marine Transport Corp.

Filing Party: Jeffrey Lawrence and Joshua Stein; Cozen O'Connor.

Synopsis: The Amendment specifies that all parties to the Agreement are listed in Appendix A; and clarifies the governance and decision making processes detailed in Articles 6.1 and 8.2.

Proposed Effective Date: 1/30/2021.

Location: https://www2.fmc.gov/FMC.Agreements.Web/Public/AgreementHistory/454.

Dated: December 18, 2020.
Rachel E. Dickon,
Secretary.

[FR Doc. 2020-28382 Filed 12-22-20; 8:45 am]

BILLING CODE 6730-02-P